DEPARTMENT OF ENERGY

Federal Energy Regulatory Commission

Combined Notice of Filings No. 1

Take notice that the Commission has received the following Natural Gas Pipeline Rate and Refund Report filings:

Filings Instituting Proceedings

Docket Numbers: RP11-2485-000.

Applicants: Panhandle Eastern Pipe Line Company, LP.

Description: Panhandle Eastern Pipe Line Company, LP submits tariff filing per 154.402: Annual Charge Adjustment (ACA) 2011 to be effective 10/1/2011.

Filed Date: 08/31/2011.

Accession Number: 20110831-5050.

Comment Date: 5 p.m. Eastern Time on Monday, September 12, 2011.

Docket Numbers: RP11-2486-000.

Applicants: Algonquin Gas Transmission, LLC.

Description: Algonquin Gas Transmission, LLC submits tariff filing per 154.204: ConEd 2011-09-01 Releases to be effective 9/1/2011.

Filed Date: 08/31/2011.

Accession Number: 20110831-5055.

Comment Date: 5 p.m. Eastern Time on Monday, September 12, 2011.

Docket Numbers: RP11-2487-000.

Applicants: Trunkline LNG Company, LLC.

Description: Trunkline LNG Company, LLC submits tariff filing per 154.204: Annual Charge Adjustment (ACA) 2011 to be effective 10/1/2011.

Filed Date: 08/31/2011.

Accession Number: 20110831-5057.

Comment Date: 5 p.m. Eastern Time on Monday, September 12, 2011.

Docket Numbers: RP11-2488-000.

Applicants: Southwest Gas Storage Company.

Description: Southwest Gas Storage Company submits tariff filing per 154.204: Annual Charge Adjustment (ACA) 2011 to be effective 10/1/2011.

Filed Date: 08/31/2011.

Accession Number: 20110831-5058.

Comment Date: 5 p.m. Eastern Time on Monday, September 12, 2011.

Docket Numbers: RP11-2489-000.

Applicants: Empire Pipeline, Inc.

Description: Empire Pipeline, Inc. submits tariff filing per 154.402: ACA-August 2011 to be effective 10/1/2011.

Filed Date: 08/31/2011.

Accession Number: 20110831-5059.

Comment Date: 5 p.m. Eastern Time on Monday, September 12, 2011.

Docket Numbers: RP11-2490-000.

Applicants: Northern Natural Gas Company.

Description: Northern Natural Gas Company submits tariff filing per 154.204: 20110831 Archer Daniels Negotiated Rate to be effective 9/1/2011.

Filed Date: 08/31/2011.

Accession Number: 20110831-5060.

Comment Date: 5 p.m. Eastern Time on Monday, September 12, 2011.

Docket Numbers: RP11-2491-000.

Applicants: Sea Robin Pipeline Company, LLC.

Description: Sea Robin Pipeline Company, LLC submits tariff filing per 154.204: Annual Charge Adjustment (ACA) 2011 to be effective 10/1/2011.

Filed Date: 08/31/2011.

Accession Number: 20110831-5061.

Comment Date: 5 p.m. Eastern Time on Monday, September 12, 2011.

Docket Numbers: RP11-2492-000.

Applicants: Florida Gas Transmission Company, LLC.

Description: Florida Gas Transmission Company, LLC submits tariff filing per 154.204: Annual Charge Adjustment (ACA) 2011 to be effective 10/1/2011.

Filed Date: 08/31/2011.

Accession Number: 20110831-5062.

Comment Date: 5 p.m. Eastern Time on Monday, September 12, 2011.

Docket Numbers: RP11-2493-000.

Applicants: Trunkline Gas Company, LLC.

Description: Trunkline Gas Company, LLC submits tariff filing per 154.402: Annual Charge Adjustment (ACA) 2011 to be effective 10/1/2011.

Filed Date: 08/31/2011.

Accession Number: 20110831-5063.

Comment Date: 5 p.m. Eastern Time on Monday, September 12, 2011.

Docket Numbers: RP11-2494-000.

Applicants: Sea Robin Pipeline Company, LLC.

Description: Sea Robin Pipeline Company, LLC submits tariff filing per 154.204: Hurricane Surcharge Filing on 8-31-11 to be effective 10/1/2011.

Filed Date: 08/31/2011.

Accession Number: 20110831-5064.

Comment Date: 5 p.m. Eastern Time on Monday, September 12, 2011.

Docket Numbers: RP11-2495-000.

Applicants: East Tennessee Natural Gas, LLC.

Description: East Tennessee Natural Gas, LLC submits tariff filing per 154.402: ETNG 2011 ACA Filing to be effective 10/1/2011.

Filed Date: 08/31/2011.

Accession Number: 20110831-5068.

Comment Date: 5 p.m. Eastern Time on Monday, September 12, 2011.

Docket Numbers: RP11-2496-000.

Applicants: Florida Gas Transmission Company, LLC.

Description: Florida Gas Transmission Company, LLC submits tariff filing per 154.204: Fuel Filing on 8-31-11 to be effective 10/1/2011.

Filed Date: 08/31/2011.

Accession Number: 20110831-5069.

Comment Date: 5 p.m. Eastern Time on Monday, September 12, 2011.

Docket Numbers: RP11-2497-000.

Applicants: Ozark Gas Transmission, LLC.

Description: Ozark Gas Transmission, LLC submits tariff filing per 154.402: Ozark 2011 ACA Filing to be effective 10/1/2011.

Filed Date: 08/31/2011.

Accession Number: 20110831-5070.

Comment Date: 5 p.m. Eastern Time on Monday, September 12, 2011.

Docket Numbers: RP11-2498-000.

Applicants: MarkWest Pioneer, LLC.

Description: MarkWest Pioneer, LLC submits tariff filing per 154.402: MarkWest Pioneer ACA Filing to be effective 10/1/2011.

Filed Date: 08/31/2011.

Accession Number: 20110831-5071.

Comment Date: 5 p.m. Eastern Time on Monday, September 12, 2011.

Docket Numbers: RP11-2499-000.

Applicants: Gulfstream Natural Gas System, LLC.

Description: Gulfstream Natural Gas System, LLC submits tariff filing per 154.402: Gulfstream 2011 ACA Filing to be effective 10/1/2011.

Filed Date: 08/31/2011.

Accession Number: 20110831-5072.

Comment Date: 5 p.m. Eastern Time on Monday, September 12, 2011.

Docket Numbers: RP11-2500-000.

Applicants: Southeast Supply Header, LLC.

Description: Southeast Supply Header, LLC submits tariff filing per 154.402: SESH 2011 ACA Filing to be effective 10/1/2011.

Filed Date: 08/31/2011.

Accession Number: 20110831-5073.

Comment Date: 5 p.m. Eastern Time on Monday, September 12, 2011.

Docket Numbers: RP11-2501-000.

Applicants: NGO Transmission, Inc.

Description: NGO Transmission, Inc. submits tariff filing per 154.402: NGO Transmission ACA Filing to be effective 10/1/2011.

Filed Date: 08/31/2011.

Accession Number: 20110831-5074.

Comment Date: 5 p.m. Eastern Time on Monday, September 12, 2011.

Docket Numbers: RP11-2502-000.

Applicants: MarkWest New Mexico, LLC.

Description: MarkWest New Mexico, LLC submits tariff filing per 154.402: MarkWest New Mexico ACA Filing to be effective 10/1/2011.

Filed Date: 08/31/2011.

Accession Number: 20110831-5077.

Comment Date: 5 p.m. Eastern Time on Monday, September 12, 2011.

Docket Numbers: RP11-2503-000.

Applicants: National Fuel Gas Supply Corporation.

Description: National Fuel Gas Supply Corporation submits tariff filing per 154.402: ACA—August 2011 to be effective 10/1/2011.

Filed Date: 08/31/2011.

Accession Number: 20110831-5080.

Comment Date: 5 p.m. Eastern Time on Monday, September 12, 2011.

Docket Numbers: RP11-2504-000.

Applicants: Alliance Pipeline L.P.

Description: Alliance Pipeline L.P. submits tariff filing per 154.204: 2011 ACA Filing to be effective 10/1/2011.

Filed Date: 08/31/2011.

Accession Number: 20110831-5084.

Comment Date: 5 p.m. Eastern Time on Monday, September 12, 2011.

Docket Numbers: RP11-2505-000.

Applicants: Dauphin Island Gathering Partners.

Description: Dauphin Island Gathering Partners submits tariff filing per 154.204: Negotiated Rates 2011-08-31 to be effective 9/1/2011.

Filed Date: 08/31/2011.

Accession Number: 20110831-5085.

Comment Date: 5 p.m. Eastern Time on Monday, September 12, 2011.

Docket Numbers: RP11-2506-000.

Applicants: Texas Eastern Transmission, LP.

Description: Texas Eastern Transmission, LP submits tariff filing per 154.204: ConocoPhillips Revised Negotiated Rate to be effective 9/1/2011.

Filed Date: 08/31/2011.

Accession Number: 20110831-5086.

Comment Date: 5 p.m. Eastern Time on Monday, September 12, 2011.

Docket Numbers: RP11-2507-000.

Applicants: Colorado Interstate Gas Company.

Description: Colorado Interstate Gas Company submits tariff filing per 154.203: Spruce Hill Non-Conforming Agreements w Black Hills Compliance to be effective 10/1/2011.

Filed Date: 08/31/2011.

Accession Number: 20110831-5087.

Comment Date: 5 p.m. Eastern Time on Monday, September 12, 2011.

Docket Numbers: RP11-2508-000.

Applicants: Cameron Interstate Pipeline, LLC.

Description: Cameron Interstate Pipeline, LLC submits tariff filing per 154.402: Cameron Interstate Pipeline Annual Charge Adjustment August 31 2011 to be effective 10/1/2011.

Filed Date: 08/31/2011.

Accession Number: 20110831-5088.

Comment Date: 5 p.m. Eastern Time on Monday, September 12, 2011.

Docket Numbers: RP11-2509-000.

Applicants: Liberty Gas Storage, LLC.

Description: Liberty Gas Storage, LLC submits tariff filing per 154.402: Liberty Gas Storage Annual Charge Adjustment August 31 2011 to be effective 10/1/2011.

Filed Date: 08/31/2011.

Accession Number: 20110831-5089.

Comment Date: 5 p.m. Eastern Time on Monday, September 12, 2011.

Docket Numbers: RP11-2510-000.

Applicants: Trailblazer Pipeline Company LLC.

Description: Trailblazer Pipeline Company LLC submits tariff filing per 154.204: Amended Negotiated Rate Filing to be effective 9/1/2011.

Filed Date: 08/31/2011.

Accession Number: 20110831-5091.

Comment Date: 5 p.m. Eastern Time on Monday, September 12, 2011.

Docket Numbers: RP11-2511-000.

Applicants: Tennessee Gas Pipeline Company.

Description: Tennessee Gas Pipeline Company submits tariff filing per 154.204: ACA 2011 to be effective 10/1/2011.

Filed Date: 08/31/2011.

Accession Number: 20110831-5094.

Comment Date: 5 p.m. Eastern Time on Monday, September 12, 2011.

Docket Numbers: RP11-2512-000.

Applicants: Kern River Gas Transmission Company.

Description: Kern River Gas Transmission Company submits tariff filing per 154.204: 2011 Apex to be effective 10/1/2011.

Filed Date: 08/31/2011.

Accession Number: 20110831-5095.

Comment Date: 5 p.m. Eastern Time on Monday, September 12, 2011.

Docket Numbers: RP11-2513-000.

Applicants: Kinder Morgan Interstate Gas Transmission LLC.

Description: Kinder Morgan Interstate Gas Transmission LLC submits tariff filing per 154.204: Negotiated Rate 2011-08-31 Mieco A&R to be effective 9/1/2011.

Filed Date: 08/31/2011.

Accession Number: 20110831-5100.

Comment Date: 5 p.m. Eastern Time on Monday, September 12, 2011.

Docket Numbers: RP11-2514-000.

Applicants: Gulfstream Natural Gas System, LLC.

Description: Gulfstream Natural Gas System, LLC submits tariff filing per 154.204: Peoples Gas System—contract 9000126R2 to be effective 9/30/2011.

Filed Date: 08/31/2011.

Accession Number: 20110831-5102.

Comment Date: 5 p.m. Eastern Time on Monday, September 12, 2011.

Docket Numbers: RP11-2515-000.

Applicants: Iroquois Gas Transmission System, L.P.

Description: Iroquois Gas Transmission System, L.P. submits tariff filing per 154.402: 08/31/11 ACA 2011 to be effective 10/1/2011.

Filed Date: 08/31/2011.

Accession Number: 20110831-5103.

Comment Date: 5 p.m. Eastern Time on Monday, September 12, 2011.

Docket Numbers: RP11-2516-000.

Applicants: Black Marlin Pipeline Company.

Description: Black Marlin Pipeline Company submits tariff filing per 154.402: Annual Charge Adjustment to be effective 10/1/2011.

Filed Date: 08/31/2011.

Accession Number: 20110831-5104.

Comment Date: 5 p.m. Eastern Time on Monday, September 12, 2011.

Docket Numbers: RP11-2517-000.

Applicants: Dominion Cove Point LNG, LP.

Description: Dominion Cove Point LNG, LP submits tariff filing per 154.402: DCP—2011 Annual Charge Adjustment to be effective 10/1/2011.

Filed Date: 08/31/2011.

Accession Number: 20110831-5106.

Comment Date: 5 p.m. Eastern Time on Monday, September 12, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 1, 2011.
Nathaniel J. Davis, Sr.,
Deputy Secretary.

[FR Doc. 2011-23082 Filed 9-8-11; 8:45 am]

BILLING CODE 6717-01-P